DEPARTMENT OF COMMERCE

National Oceanic and Atmospheric Administration

Agency Information Collection Activities; Submission to the Office of Management and Budget (OMB) for Review and Approval; Comment Request; Green Sturgeon ESA 4(d) Rule Take Exceptions and Exemptions

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 19, 2022 during a 60-day comment period. This notice allows for an additional 30 days for public comments.

Agency: National Marine Fisheries Service (NMFS), Commerce.

Title: Green Sturgeon ESA 4(d) Rule Take Exceptions and Exemptions.

OMB Control Number: 0648-0613.

Form Number(s): None.

Type of Request: Regular submission (extension of a current information collection).

Number of Respondents: 45.

Average Hours Per Response: Written notification describing research, monitoring, habitat restoration, or emergency fish rescue and salvage activities, 40 hours; research applications, 40 hours; development of state 4(d) research programs, 40 hours; development of a tribal fishery management or fishery management and evaluation plan, 160 hours; FMEP report, 20 hours; reports, 5 hours.

Total Annual Burden Hours: 1,510.

Needs and Uses: The Southern Distinct Population Segment of North American green sturgeon (Acipenser medirostris; hereafter, “Southern DPS”) was listed as a threatened species in April 2006. Protective regulations under section 4(d) of the ESA were promulgated for the species on June 2, 2010 (75 FR 30714) (the final ESA 4(d) Rule) and codified at 50 CFR 223.210. To comply with the ESA and the protective regulations, entities must obtain take authorization prior to engaging in activities involving take of Southern DPS fish unless the activity is covered by an exception or exemption. “Take” is defined as to harass, harm, pursue, hunt, shoot, wound, kill, trap, capture or collect, or to attempt to engage in any such conduct. Certain activities described in the “exceptions” provision of 50 CFR 223.210(b) are not subject to the take prohibitions if they adhere to specific criteria and reporting requirements. Under the “exemption” provision of 50 CFR 223.210(c), the take prohibitions do not apply to scientific research, scientific monitoring, and fisheries activities conducted under an approved 4(d) program or plan; similarly, take prohibitions do not apply to tribal resource management activities conducted under a Tribal Plan for which the requisite determinations described in 50 CFR 223.210(c)(3) have been made.

To ensure that activities qualify under exceptions to or exemptions from the take prohibitions, local, state, and federal agencies, non-governmental organizations, academic researchers, and private organizations are asked to voluntarily submit detailed information regarding their activity on a schedule to be determined by National Marine Fisheries Service (NMFS) staff. This information is used by NMFS to (1) track the number of Southern DPS fish taken as a result of each action; (2) understand and evaluate the cumulative effects of each action on the Southern DPS; and (3) determine whether additional protections are needed for the species, or whether additional exceptions may be warranted. NMFS designed the criteria to ensure that plans meeting the criteria would adequately limit effects on threatened Southern DPS fish, such that additional protections in the form of a federal take prohibition would not be necessary and advisable.

Affected Public: Not-for-profit institutions; State, local, or Tribal government; Federal government; business or other for-profit organizations.

Frequency: Written notification describing research, monitoring, habitat restoration, or emergency fish rescue and salvage activities, on occasion; development of fisheries management and evaluation plans, state 4(d) research programs, or tribal fishery management plans, on occasion; fisheries management and evaluation plan reports, biannually; all other reports, annually.

Respondent's Obligation: Required to Obtain or Retain Benefits.

Legal Authority: Endangered Species Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0613.

Sheleen Dumas,
Department PRA Clearance Officer, Office of the Chief Information Officer, Commerce Department.

[FR Doc. 2022-24211 Filed 11-4-22; 8:45 am]

BILLING CODE 3510-22-P